DEPARTMENT OF THE INTERIOR

National Park Service

[N6873; NPS-WASO-NAGPRA-NPS0041863; PPWOCRADN0-PCU00RP14.R50000]

Notice of Intended Repatriation: Arizona State University, School of Human Evolution and Social Change, Tempe, AZ

AGENCY: National Park Service, Interior.

ACTION: Notice.

SUMMARY: In accordance with the Native American Graves Protection and Repatriation Act (NAGPRA), the Center for Archaeology and Society Repository (acting in place of the Arizona State University School of Human Evolution and Social Change) intends to repatriate certain cultural items that meet the definition of unassociated funerary objects, sacred objects, and/or objects of cultural patrimony and that have a cultural affiliation with the Indian Tribes or Native Hawaiian organizations in this notice.

DATES: Repatriation of the cultural items in this notice may occur on or after February 17, 2026.

ADDRESSES: Send additional, written requests for repatriation of the cultural items in this notice to Allisen Dahlstedt, Arizona State University, School of Human Evolution and Social Change, P.O. Box 872402, Tempe, AZ 85287-2402, email Allisen.Dahlstedt@asu.edu and Christopher Caseldine, Arizona State University, School of Human Evolution and Social Change, P.O. Box 872402, Tempe, AZ 85287-2402, email Christopher.Caseldine@asu.edu.

SUPPLEMENTARY INFORMATION: This notice is published as part of the National Park Service's administrative responsibilities under NAGPRA. The determinations in this notice are the sole responsibility of the Arizona State University (ASU) Center for Archaeology and Society Repository (CASR), and additional information on the determinations in this notice, including the results of consultation, can be found in the summary or related records. The National Park Service is not responsible for the determinations in this notice.

Abstract of Information Available

A total of 276 lots of cultural items have been requested for repatriation.

The 119 unassociated funerary objects are 10 lots of faunal bone, six lots of ceramic objects, eight lots of chipped stone objects, two lots of glass objects, one lot of ground stone objects, six lots of raw stone objects, two lots of samples, and 84 lots of shell objects.

The 157 lots of sacred objects/objects of cultural patrimony are one lot of faunal bone, 10 lots of ceramic objects, 10 lots of chipped stone objects, 19 lots of ground stone objects, 18 lots of raw stone objects, and 99 lots of shell objects.

The cultural items were removed from the Cashion site in Maricopa County, AZ during four different archaeological undertakings: in December 1964 during a NSF-funded regional survey; in Summer 1966 during a localized excavation conducted by ASU students, in summer 1977 during a field survey and research project on a private parcel within the Cashion site boundaries, and during the a four-season ASU field school on a private parcel within the Cashion site in the Fall semester of 1997, Spring and Fall semesters of 1998, and the Fall semester of 1999 overseen by Dr. Glen Rice. After each field undertaking, the collections were curated by what was then the Department of Anthropology, now the School of Human Evolution and Social Change, at ASU's Center for Archaeology and Society Repository (CASR).

Determinations

The Arizona State University (ASU) Center for Archaeology and Society Repository (CASR) has determined that:

• The 119 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 157 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice and the Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 17, 2026. If competing requests for repatriation are received, the ASU Center for Archaeology and Society Repository must determine the most appropriate requestor prior to repatriation. Requests for joint repatriation of the cultural items are considered a single request and not competing requests. The ASU Center for Archaeology and Society Repository is responsible for sending a copy of this notice to the Indian Tribes and Native Hawaiian organizations identified in this notice and to any other consulting parties.

Authority: Native American Graves Protection and Repatriation Act, 25 U.S.C. 3004 and the implementing regulations, 43 CFR 10.9.

Dated: January 9, 2026.
Melanie O'Brien,
Manager, National NAGPRA Program.

[FR Doc. 2026-00864 Filed 1-15-26; 8:45 am]

BILLING CODE 4312-52-P